COMMODITY FUTURES TRADING COMMISSION

Agency Information Collection Activities: Notice of Intent To Renew Collection 3038-0107, Generic Clearance for the Collection of Qualitative Feedback on Agency Service Delivery

AGENCY: Commodity Futures Trading Commission.

ACTION: Notice.

SUMMARY: The Commodity Futures Trading Commission (“Commission” or “CFTC”) is announcing an opportunity for public comment on the renewal of collection of certain information by the Commission's Office of Consumer Outreach (“OCO”). Under the Paperwork Reduction Act (“PRA”), Federal agencies are required to publish notice in the Federal Register concerning each proposed or renewal of a collection of information and to allow 60 days for public comment. The Commission is soliciting comments for the renewal of its generic information collection that will help the CFTC satisfy responsibilities under the Dodd-Frank Wall Street Reform and Consumer Protection Act (“Dodd-Frank Act”), found in Section 748 of the Dodd-Frank Act. The generic information collection will provide the OCO a means to gather qualitative consumer and stakeholder feedback in an efficient, timely manner to facilitate service delivery.

DATES: Comments must be submitted on or before May 3, 2016.

ADDRESSES: You may submit comments, identified by “Generic Clearance for the Collection of Qualitative Feedback on Agency Service Delivery,” and Collection Number 3038-0107, by any of the following methods:

• The Agency's Web site, at http://comments.cftc.gov/. Follow the instructions for submitting comments through the Web site.

• Mail: Christopher Kirkpatrick, Secretary of the Commission, Commodity Futures Trading Commission, Three Lafayette Centre, 1155 21st Street NW., Washington, DC 20581.

• Hand Delivery/Courier: Same as Mail above.

• Federal eRulemaking Portal: http://www.regulations.gov. Follow the instructions for submitting comments through the Portal.

Please submit your comments using only one method.

All comments must be submitted in English, or if not, accompanied by an English translation. Comments will be posted as received to http://www.cftc.gov. If you wish the Commission to consider information that you believe is exempt from disclosure under the Freedom of Information Act, a petition for confidential treatment of the exempt information may be submitted according to the procedures established in § 145.9 of the Commission's regulations.¹

¹ 17 CFR 145.9.

FOR FURTHER INFORMATION CONTACT: Nisha Smalls, Office of Consumer Outreach, Commodity Futures Trading Commission, 1155 21st Street NW., Washington, DC 20581, (202) 418-5895; FAX: (202) 418-5541; email: nsmalls@cftc.gov and refer to this Federal Register notice.

SUPPLEMENTARY INFORMATION: Under the PRA, Federal agencies must obtain approval from the Office of Management and Budget (“OMB”) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the proposed collection of information listed below.

Title: Generic Clearance for Collection of Qualitative Feedback on Agency Service Delivery.

Abstract: In accordance with section 748 of the Dodd-Frank Act, the OCO anticipates undertaking a variety of service delivery-focused activities over the next few years which include consumer outreach and information-sharing with stakeholders that are responsive to stakeholders' needs and sensitive to changes in the consumer market. The proposed information collection activity will use similar methods for information collection or otherwise share common elements, and provide a means to gather qualitative customer and stakeholder feedback in an efficient, timely manner. By qualitative feedback we mean information that provides useful information on perceptions and opinions. The solicitation of information on delivery of consumer services will address such areas as appropriate messages, effective message delivery methods, effective event outreach tactics and characteristics, new outreach program ideas and content, and current consumer beliefs, psychographics and social norms that will assist the agency in developing outreach and communications campaigns. Since these systems will use similar methods for information collection or otherwise share common elements, the OCO is proposing a generic clearance for this process which will allow the OCO to implement these systems and meet the obligations of the PRA without the delays of the normal clearance process. Collection methods may include focus groups and surveys as well as other relevant collection methods that meet the conditions appropriate for a generic clearance as outlined below. The OCO will only submit a collection for approval under this generic clearance if it meets the following conditions:

• The collections are voluntary;

• The collections are low-burden for respondents (based on considerations of total burden hours, total number of respondent, or burden-hours per respondent) and are low-cost for both the respondents and the Federal Government;

• The collections are non-controversial and do not raise issues of concern to other Federal agencies;

• Any collection is targeted to the solicitation of opinions from respondents who have experience with the program or may have experience with the program in the near future;

• Personally identifiable information (PII) is collected only to the extent necessary and is not retained;

• Information gathered is intended to be used only internally for general service improvement and program management purposes and is not intended for release outside of the Commission (if released, the Commission must indicate the qualitative nature of the information);

• Information gathered will not be used for the purpose of substantially informing influential policy decisions; and

• Information gathered will yield qualitative information; the collections will not be designed or expected to yield statistically reliable results or used as though the results are generalizable to the population of study. Whether the proposed collection of information is necessary for the proper performance of the functions of the Commission, including whether the information will have a practical use;

With respect to the collection of information, the Commission invites comments on:

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

Burden Statement

Type of Review: Generic Clearance Request.

Affected Public: Individuals and Households, Businesses and Organization, State, Local or Tribal governments.

Respondent's Obligation: Voluntary.

Estimated number of Respondents/Affected Entities: 1,440.

Estimated average number of responses: 10 per year.

Estimated total average annual burden on respondents: 14,400 responses.

Frequency of collection: Once per request.

Average minutes per response: 120.

Estimated total annual burden hours requested: 28,800 hours.

There are no capital costs or operating and maintenance costs associated with this collection.

Authority: 44 U.S.C. 3501 et seq.

Dated: March 1, 2016.
Robert N. Sidman,
Deputy Secretary of the Commission.

[FR Doc. 2016-04812 Filed 3-3-16; 8:45 am]

BILLING CODE 6351-01-P